DEPARTMENT OF TRANSPORTATION

Federal Aviation Administration

14 CFR Part 39

[Docket No. FAA-2006-24117; Directorate Identifier 2006-NE-07-AD; Amendment 39-14570; AD 2006-08-13]

RIN 2120-AA64

Airworthiness Directives; Pratt & Whitney Canada (PWC) PW535A Turboshaft Engines

AGENCY: Federal Aviation Administration (FAA), Department of Transportation (DOT).

ACTION: Final rule; request for comments.

SUMMARY: The FAA is adopting a new airworthiness directive (AD) for Pratt & Whitney Canada (PWC) PW535A turboshaft engines with serial numbers (SNs) lower than DC0241, and with hydromechanical fuel control (HFC) part number (P/N) 819735-4, 819735-5, or 819735-6 installed. This AD requires inspection and verification of the proper adjustment of the ratio unit setscrew adjustment of installed HFC units. This AD results from incidents of PW535A turboshaft engines experiencing lack of response to the power lever input during attempted engine acceleration, due to an incorrect adjustment of the HFC ratio unit setscrew. We are issuing this AD to prevent lack of engine response to power lever input, which could cause a single or dual engine in-flight shutdown event.

DATES: Effective May 8, 2006. The Director of the Federal Register approved the incorporation by reference of certain publications listed in the regulations as of May 8, 2006. We must receive any comments on this AD by June 20, 2006.

ADDRESSES: Use one of the following addresses to comment on this AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

Contact Pratt & Whitney Canada, 1000 Marie-Victorin, Longueuil, Quebec, Canada, J4G 1A1; telephone 800-268-8000; fax 450-647-2888, for the service information identified in this AD.

FOR FURTHER INFORMATION CONTACT: Ian Dargin, Aerospace Engineer, Engine Certification Office, FAA, Engine and Propeller Directorate, 12 New England Executive Park, Burlington, MA 01803; telephone (781) 238-7178; fax (781) 238-7199.

SUPPLEMENTARY INFORMATION: Transport Canada, which is the airworthiness authority for Canada, recently notified us that an unsafe condition may exist on PWC PW535A turboshaft engines with SNs lower than DC0241. Transport Canada advises that they received reports of incidents of PW535A turboshaft engines experiencing lack of response to the power lever input during engine acceleration, due to an incorrect adjustment of the HFC ratio unit setscrew. Two events resulted in engine in-flight shutdowns.

Relevant Service Information

We have reviewed and approved the technical contents of PWC Alert Service Bulletin (ASB) No. PW500-72-A30257, Revision 1, dated December 3, 2004, that describes procedures for inspecting and verifying proper adjustment of the ratio unit setscrew of installed HFC units. Transport Canada classified this ASB as mandatory and issued AD CF-2004-28 in order to ensure the airworthiness of these PWC engines in Canada.

Bilateral Airworthiness Agreement

This PW535A turboshaft engine model is manufactured in Canada and is type certificated for operation in the United States under the provisions of section 21.29 of the Federal Aviation Regulations (14 CFR 21.29) and the applicable bilateral airworthiness agreement. Under this bilateral airworthiness agreement, Transport Canada kept the FAA informed of the situation described above. We have examined the findings of Transport Canada, reviewed all available information, and determined that AD action is necessary for products of this type design that are certificated for operation in the United States.

FAA's Determination and Requirements of This AD

The unsafe condition described previously is likely to exist or develop on other PW535A turboshaft engines of the same type design. We are issuing this AD to prevent lack of engine response to power lever input, which could cause a single or dual engine in-flight shutdown event. This AD requires inspection and verification of the proper adjustment of the ratio unit setscrew of installed HFC units. You must use the service information described previously to perform the actions required by this AD.

FAA's Determination of the Effective Date

Since an unsafe condition exists that requires the immediate adoption of this AD, we have found that notice and opportunity for public comment before issuing this AD are impracticable, and that good cause exists for making this amendment effective in less than 30 days.

Comments Invited

This AD is a final rule that involves requirements affecting flight safety and was not preceded by notice and an opportunity for public comment; however, we invite you to send us any written relevant data, views, or arguments regarding this AD. Send your comments to an address listed under ADDRESSES. Include “AD Docket No. FAA-2006-24117; Directorate Identifier 2006-NE-07-AD” in the subject line of your comments. We specifically invite comments on the overall regulatory, economic, environmental, and energy aspects of the rule that might suggest a need to modify it.

We will post all comments we receive, without change, to http://dms.dot.gov, including any personal information you provide. We will also post a report summarizing each substantive verbal contact with FAA personnel concerning this AD. Using the search function of the DMS Web site, anyone can find and read the comments in any of our dockets, including the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the AD, any comments received, and any final disposition in person at the Docket Management Facility Docket Office between 9 a.m. and 5 p.m., Monday through Friday, except Federal holidays. The Docket Office (telephone (800) 647-5227) is located on the plaza level of the Department of Transportation Nassif Building at the street address stated in ADDRESSES. Comments will be available in the AD docket shortly after the DMS receives them.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the National Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act. We prepared a summary of the costs to comply with this AD and placed it in the AD Docket. You may get a copy of this summary by sending a request to us at the address listed under ADDRESSES.

List of Subjects in 14 CFR Part 39

Air transportation, Aircraft, Aviation safety, Incorporation by reference, Safety.

Adoption of the Amendment

Under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2006-08-13 Pratt & Whitney Canada: Amendment 39-14570. Docket No. FAA-2006-24117; Directorate Identifier 2006-NE-07-AD.

Effective Date

(a) This airworthiness directive (AD) becomes effective May 8, 2006.

Affected ADs

(b) None.

Applicability

(c) This AD applies to Pratt & Whitney Canada (PWC) PW535A engines with serial numbers lower than DC0241, and with hydromechanical fuel control (HFC) part number (P/N) 819735-4, 819735-5, or 819735-6 installed. These engine models are installed on, but not limited to, Cessna model 560 Citation (Encore) airplanes.

Unsafe Condition

(d) This AD results from incidents of PW535A engines experiencing lack of response to the power lever input during engine acceleration, due to an incorrect adjustment of the HFC ratio unit setscrew. We are issuing this AD to prevent lack of engine response to power lever input, which could cause a single or dual engine in-flight shutdown event.

Compliance

(e) You are responsible for having the actions required by this AD performed within 50 flight hours time-in-service after the effective date of this AD, unless the actions have already been done.

(f) To ensure the HFC, P/N 819735-4, 819735-5, or 819735-6, ratio unit setscrew is properly adjusted, determine if the HFC serial number is listed in Table 1 of PWC Alert Service Bulletin (ASB) No. PW500-72-A30257, Revision 1, dated December 3, 2004.

(1) If the HFC's serial number is listed in Table 1, ensure the HFC ratio unit setscrew is properly adjusted by following the instructions contained in paragraphs 3 B, C, D, E, F, G, and H of PWC ASB No. PW500-72-A30257, Revision 1, dated December 3, 2004.

(2) If the HFC's serial number is not listed, this airworthiness directive is not applicable.

Prior Credit

(g) Compliance with the original version of PWC ASB No. PW500-72-A30257, dated December 2, 2003, before the effective date of this AD satisfies the requirements of this AD.

Alternative Methods of Compliance

(h) The Manager, Engine Certification Office, has the authority to approve alternative methods of compliance for this AD if requested using the procedures found in 14 CFR 39.19.

Related Information

(i) Transport Canada airworthiness directive CF-2004-28, dated December 20, 2004, also addresses the subject of this AD.

Material Incorporated by Reference

(j) You must use Pratt & Whitney Canada Alert Service Bulletin No. PW500-72-A30257, Revision 1, dated December 3, 2004, to perform the actions required by this AD. The Director of the Federal Register approved the incorporation by reference of this service bulletin in accordance with 5 U.S.C. 552(a) and 1 CFR part 51. Contact Pratt & Whitney Canada, 1000 Marie-Victorin, Longueuil, Quebec, Canada, J4G 1A1; telephone 800-268-8000; fax 450-647-2888, for a copy of this service information. You may review copies at the Docket Management Facility; U.S. Department of Transportation, 400 Seventh Street, SW., Nassif Building, Room PL-401, Washington, DC 20590-0001, on the Internet at http://dms.dot.gov; or at the National Archives and Records Administration (NARA). For information on the availability of this material at NARA, call 202-741-6030, or go to: http://www.archives.gov/federal-register/cfr/ibr-locations.html.

Issued in Burlington, Massachusetts, on April 14, 2006.
Robert G. Mann,
Acting Manager, Engine and Propeller Directorate, Aircraft Certification Service.

[FR Doc. 06-3765 Filed 4-20-06; 8:45 am]

BILLING CODE 4910-13-P